DEPARTMENT OF COMMERCE

Minority Business Development Agency

Rural Business Center Program

AGENCY: Minority Business Development Agency (MBDA), Commerce.

ACTION: Notice of request for public comments.

SUMMARY: On November 15, 2021, President Biden signed the Infrastructure Investment and Jobs Act, which included statutory authority within the Minority Business Development Act (the Act) for the Minority Business Development Agency (MBDA) to establish a Rural Business Center Program. MBDA is seeking public comment on various issues related to rural areas and rural minority business enterprises to inform the agency and provide fundamental information regarding this sector of the economy. This notice requests comments on or before January 25, 2022.

DATES: The deadline for filing comments is January 25, 2022.

ADDRESSES: All comments should be submitted in electronic form to mbdapublicaffairs@mbda.gov.

FOR FURTHER INFORMATION CONTACT: Danae Pauli, Senior Advisor to the National Director, MBDA, U.S. Department of Commerce, by email at dpauli@mbda.gov, or at (202) 482-2332.

SUPPLEMENTARY INFORMATION:

The Minority Business Development Agency (MBDA), a bureau of the U.S. Department of Commerce, leads Federal Government efforts to promote the growth and global competitiveness of minority business enterprises (MBEs). The Minority Business Development Act (the Act) authorized MBDA to establish a rural business center program to serve rural minority business enterprises or minority business enterprises located more than 50 miles from an MBDA Business Center (other than an MBDA Rural Business Center) and provide education and training, legal, financial, and technical assistance to minority business enterprises. Infrastructure Investment and Jobs Act, Public Law 117-58, division K, title III, sections 100301 and 100302 (November 15, 2021). Rural area is defined in the MBDA Act pursuant to section 371(a) of the Consolidated Farm and Rural Development Act, 7 U.S.C. 1991(a). The Act designated minority-serving institutions (as defined in section 371(a)(1) through (7) of the Higher Education Act of 1965, 20 U.S.C. 1067q(a)) as the entities that are eligible to receive grants to operate a rural business center. MBDA has initiated the process of conducting research and collecting information to design the new program that meets the business development needs of MBEs located in rural areas across the United States. Comments may be used to help MBDA decide policy related to the areas of focus, geographical location and distribution, and additional areas of service for the rural business center program. As part of this process, MBDA is seeking comments from members of the public, including but not limited to operators of rural businesses and persons with expertise and information, to provide the following information related to minority businesses in rural areas:

1. Describe the types of business operations in rural areas.

2. What are the financial, operational, and logistical needs of rural business enterprises?

3. Are there unique challenges faced by MBEs located in rural and remote areas of the U.S.? If so, describe.

4. What are the best methods to provide education, training, legal, financial, and technical assistance to MBEs in rural areas?

5. Are there examples or success stories from organizations that provide services to MBEs in rural areas?

6. How should MBDA measure success for rural business centers?

7. What specific performance metrics should MBDA consider for rural business centers that would measure service to rural businesses?

8. What factors should be measured to demonstrate elements of success from the perspective of organizations that support, or customers served by rural businesses?

9. What is the most effective role for Minority Serving Institutions (MSIs) to foster the establishment and growth of MBEs in rural America and how should that impact be measured?

10. How many MSIs have degree and/or academic programs focused on business-related topics (e.g., entrepreneurship, supply chains, advanced manufacturing/manufacturing, innovation, etc.) or offer business accelerator programs and/or business incubators? Provide names and locations of MSIs that have these programs.

11. What is the most effective way for MSIs to collaborate with community-based organizations? Please provide examples.

In addition, MBDA is seeking public comment regarding the focal points for the rural business centers as directed by the section 100302(c) of the MBDA Act: (i) The adoption of broadband internet access service (as defined in section 8.1(b) of title 47, Code of Federal Regulations, or any successor regulation), digital literacy skills, and e-commerce by rural minority business enterprises; (ii) advanced manufacturing; (iii) the promotion of manufacturing in the United States; (iv) ways in which rural minority business enterprises can meet gaps in the supply chain of critical supplies and essential goods and services for the United States; (v) improving the connectivity of rural minority business enterprises through transportation and logistics; (vi) promoting trade and export opportunities by rural minority business enterprises; (vii) securing financial capital; (viii) facilitating entrepreneurship in rural areas; and (ix) creating jobs in rural areas.

All comments must be submitted in electronic form (Word or other consistent software program) to the comment mailbox listed in the ADDRESSES section above. Comments should include the name or organization represented, contact information for the commenter, and the specific issue or subject addressed in accordance with this notice and the provisions of the MBDA Act, Rural Business Center Program section.

Josephine Arnold,
Chief Counsel, Minority Business Development Agency.

[FR Doc. 2021-28331 Filed 12-29-21; 8:45 am]

BILLING CODE 3510-21-P